INTERNATIONAL TRADE COMMISSION

Sunshine Act Meeting

AGENCY HOLDING THE MEETING: United States International Trade Commission.

TIME AND DATE: June 12, 2000 at 2:00 p.m.

PLACE: Room 101, 500 E Street, S.W., Washington, DC 20436, Telephone: (202) 205-2000.

STATUS: Open to the public.

AGENDA ITEM TO BE REMOVED: 5. Inv. Nos. 701-TA-253 and 731-TA-132, 252, 271, 276-277, 296, 409-410, 532-534, and 536-537 (Review) (Certain Pipe and Tube from Argentina, Brazil, Canada, India, Korea, Mexico, Singapore, Taiwan, Thailand, Turkey, and Venezuela)—briefing and vote. (The Commission will transmit its determination to the Secretary of Commerce on July 26, 2000).

In accordance with 19 CFR § 201.35(d)(2), interested parties are hereby notified that the Commission has determined that Commission business requires removal of the above agenda item from the meeting of Monday, June 12, 2000 at 2:00 p.m. No earlier announcement of such change was possible.

Issued: June 9, 2000.
By order of the Commission.
Donna R. Koehnke,
Secretary.

[FR Doc. 00-14996 Filed 6-9-00; 2:10 pm]

BILLING CODE 7020-02-U